DEPARTMENT OF TRANSPORTATION

Federal Aviation Administration

14 CFR Part 39

[Docket No. FAA-2005-22032; Directorate Identifier 2005-NM-049-AD; Amendment 39-14308; AD 2005-20-14]

RIN 2120-AA64

Airworthiness Directives; Airbus Model A300 B4-620, A310-304, A310-324, and A310-325 Airplanes

AGENCY: Federal Aviation Administration (FAA), Department of Transportation (DOT).

ACTION: Final rule.

SUMMARY: The FAA is adopting a new airworthiness directive (AD) for certain Airbus Model A300 B4-620, A310-304, A310-324, and A310-325 airplanes. This AD requires installing fused adaptors between the external wiring harness and the in-tank wiring at the connectors on the fuel tank wall of the auxiliary center tank (ACT). This AD results from fuel system reviews conducted by the manufacturer. We are issuing this AD to prevent an ignition source in the ACT, which, in combination with flammable fuel vapors, could result in a fuel tank explosion and consequent loss of the airplane.

DATES: This AD becomes effective November 10, 2005.

The Director of the Federal Register approved the incorporation by reference of certain publications listed in the AD as of November 10, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B4-620, A310-304, A310-324, and A310-325 airplanes. That NPRM was published in the Federal Register on August 8, 2005 (70 FR 45587). That NPRM proposed to require installing fused adaptors between the external wiring harness and the in-tank wiring at the connectors on the fuel tank wall of the auxiliary center tank (ACT).

Comments

We provided the public the opportunity to participate in the development of this AD. We received no comments on the NPRM or on the determination of the cost to the public.

Clarification of Alternative Method of Compliance (AMOC) Paragraph

We have revised this AD to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Costs of Compliance

This AD affects about 2 airplanes of U.S. registry. The actions take about 52 work hours per airplane, at an average labor rate of $65 per work hour. Required parts cost about $5,410 per ACT (up to two ACTs per airplane). Based on these figures, the estimated cost of the AD for U.S. operators is $8,790 per ACT, per airplane.

Currently, there are no Model A300 B4-620 airplanes of U.S. registry with one or more ACTs. However, if an affected airplane is imported and placed on the U.S. Register in the future, the required actions would take about 52 work hours, at an average labor rate of $65 per work hour. Required parts would cost about $10,730 per ACT, per airplane. Based on these figures, we estimate the cost of this AD to be $14,110 per ACT.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-14 Airbus: Amendment 39-14308. Docket No. FAA-2005-22032; Directorate Identifier 2005-NM-049-AD.

Effective Date

(a) This AD becomes effective November 10, 2005.

Affected ADs

(b) None.

Applicability

(c) This AD applies to Airbus Model A300 B4-620, A310-304, A310-324, and A310-325 airplanes, certificated in any category; equipped with one or more auxiliary center tank (ACT), except those on which Airbus Modification 12471 has been accomplished in production.

Unsafe Condition

(d) This AD is prompted by the results of fuel system reviews conducted by the manufacturer. We are issuing this AD to prevent an ignition source in the ACT, which, in combination with flammable fuel vapors, could result in a fuel tank explosion and consequent loss of the airplane.

Compliance

(e) You are responsible for having the actions required by this AD performed within the compliance times specified, unless the actions have already been done.

Modification

(f) Within 24 months after the effective date of this AD: Install fused adaptors between the external wiring harness and the in-tank wiring at the connectors on the fuel tank wall of the ACT by doing all the actions specified in the Accomplishment Instructions of the applicable service bulletin in Table 1 of this AD.

Table 1.—Airbus Service Bulletins
Airbus Service Bulletin | Date | Model
A300-28-6073 | December 23, 2004 | A300 B4-620 airplanes.
A310-28-2149 | September 29, 2004 | A310-304, A310-324, and A310-325 airplanes.

Alternative Methods of Compliance (AMOCs)

(g)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) French airworthiness directive F-2005-021, dated February 2, 2005, also addresses the subject of this AD.

Material Incorporated by Reference

(i) You must use Airbus Service Bulletin A300-28-6073, dated December 23, 2004; or Airbus Service Bulletin A310-28-2149, dated September 29, 2004; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19844 Filed 10-5-05; 8:45 am]

BILLING CODE 4910-13-P